ENVIRONMENTAL PROTECTION AGENCY

[EPA-HQ-OPPT-2004-0122; FRL-8136-4]

Pollution Prevention through Nanotechnology Conference; Notice of Public Meeting

AGENCY: Environmental Protection Agency (EPA).

ACTION: Notice.

SUMMARY: EPA is convening a conference to better understand the benefits that nanotechnology can offer by preventing pollution, and to encourage development of nanotechnology that offers such benefits. A multi-stakeholder Steering Committee has helped develop a scope and agenda for the conference. Through a series of presentations and case studies, this conference will help inform subsequent research and commercialization of nanotechnology and nanomaterials that promote pollution prevention in an environmentally responsible manner.

DATES: The conference will be held on September 25 and 26, 2007 .

You may register for the conference on or before September 14, 2007. See also Unit IV. for additional registration information.

To request accommodation of a disability, please contact the person listed under FOR FURTHER INFORMATON CONTACT, preferably at least 10 days prior to the conference, to give EPA as much time as possible to process your request.

Poster applications are due July 31, 2007.

ADDRESSES: The conference will be held at the Holiday Inn Rosslyn at Key Bridge, 1900 Fort Myer Dr., Arlington, VA 22209.

See Unit III. for poster application submissions.

See Unit IV. for registration submissions.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 564-1404; e-mail: TSCA-Hotline@epa.gov.

For technical information contact: Clive Davies, Design for the Environment Branch, Economics, Exposure, and Technology Division (7406M), Office of Pollution Prevention and Toxics, Environmental Protection Agency, 1200 Pennsylvania Ave., NW, Washington, DC 20460-0001; telephone number: (202) 564-3821; email: davies.clive@epa.gov.

SUPPLEMENTARY INFORMATION:

I. General Information

A. Does this Action Apply to Me?

This action is directed to the public in general, and may be of particular interest to those persons who manufacture, import, process, or use nanoscale materials, especially to prevent pollution. Representatives from industry; non-governmental organizations concerned with the environment and human health; academia; and government may all be interested in attending.

Since many entities may be interested, the Agency has not attempted to fully describe all of the entities that may have an interest in this matter. If you have questions regarding the applicability of this action to a particular entity, consult the technical person listed under FOR FURTHER INFORMATION CONTACT.

B. How Can I Get Copies of this Document and Other Related Information?

1. Docket. EPA has established a docket for this action under docket ID number EPA-HQ-OPPT-2004-0122. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure. 2. Electronic access. You may access this Federal Register document electronically through the EPA Internet under the “Federal Register” listings at http://www.epa.gov/fedrgstr. All documents relating to this conference are available at http://www.epa.gov/oppt/nano.

II. Background

A. Pollution Prevention

Pollution prevention is reducing or eliminating waste at the source by modifying production processes, promoting the use of non-toxic or less-toxic substances, implementing conservation techniques, and re-using materials rather than putting them into the waste stream.

B. Beneficial Characteristics

The unique and potentially useful properties of nanomaterials include dramatically increased surface areas and reactivities, improved strength-weight ratios, increased electrical conductivity, and changes in color and opacity. Materials designed to take advantage of these properties are finding application in a variety of areas, such as electronics, medicine, and environmental protection.

This conference is focused on three major areas of pollution prevention:

• Products. Products that are less toxic, less polluting, and wear-resistant.

• Processes. Processes that are more efficient and waste-reducing.

• Energy and resource efficiency. Processes and products that use less energy and fewer raw materials because of greater efficiency.

To emphasize the importance of the responsible development ¹ of nanotechnology, conference speakers and attendees are encouraged to apply “life-cycle thinking” as they make presentations or attend conference sessions. Life-cycle thinking involves consideration of environmental and human health endpoints such as toxicity and exposure that occur over the material’s life cycle. Design, production, use, and disposal are all relevant to life-cycle thinking.

¹ A Matter of Size: Triennial Review of the National Nanotechnology Initiative, 2006, The National Academies Press, “Responsible Development”, page 73, “...responsible development of nanotechnology can be characterized as the balancing of efforts to maximize the technology’s positive contributions and minimize its negative consequences. Thus, responsible development involves an examination both of applications and of potential implications. It implies a commitment to develop and use technology to help meet the most pressing human and societal needs, while making every reasonable effort to anticipate and mitigate adverse implications or unintended consequences.”

The questions below are intended to focus presentations and discussions at the conference. Answers to these questions could help guide subsequent work in P2 through nanotechnology.

1. Which nanotechnologies show the greatest promise for preventing pollution?

Considerations:

• This question should be viewed through the lens of life-cycle thinking to minimize the possibility of unintended consequences.

• Which pollution prevention applications are the most likely to find real-world applications?

• What barriers exist to the adoption of nanotechnology-enabled pollution prevention applications?

2. What are the most promising areas of research on pollution prevention applications of nanotechnologies?

Considerations:

• Which research areas could improve our understanding of the full life-cycle of nanomaterials?

• How can the beneficial properties of engineered products of nanotechnology such as increased surface activity, greater conductivity, improved strength-weight ratio, altered optical properties (changes in color or opacity), and flame retardancy be used to improve materials and products and reduce the production of pollutants at their source?

3. What recommendations do conference participants have for promoting and encouraging pollution prevention in the development and application of nanotechnology?

Considerations:

• What actions could be taken, and by whom?

• What mechanisms, programs, or associations could promote the research, development, and adoption of such applications?

• What role can EPA programs play?

III. Call for Posters

Posters are an excellent forum for authors to present informally, yet in a highly visible fashion, their most recent work regarding pollution prevention through nanotechnology. A poster session provides an opportunity for authors to directly communicate with participants of the conference and engage in detailed one-on-one discussions. Successful posters should reflect the goals of the Pollution Prevention through Nanotechnology Conference. We encourage you to submit an entry for the poster session in the area of nanotechnology products, nanotechnology processes, or nanotechnology energy/resource efficiency. Posters with a focus on safer chemistries through use of nanotechnology are especially encouraged. Because of space constraints, a limited number of posters will be accepted in each area. To submit an entry for the poster session, please send a short description (less than one-page) of the poster you would like to display. The description should identify which category your poster fits within (products, processes, or efficient use of resources), how it responds to the concepts raised in the three questions listed above and how it addresses responsible development, and whether environmental benefits can be quantified, such as reduction of use of hazardous chemicals or energy or resource savings. Poster applications are due July 31, 2007. Please submit poster applications to the technical person listed under FOR FURTHER INFORMATION CONTACT.

IV. How Can I Request to Attend this Conference?

You may register for the conference electronically through EPA’s website, at http://www.epa.gov/oppt/nano by September 14, 2007. Advance requests will assist in planning adequate seating; however, members of the public may attend without prior registration. You may also submit a request to attend this conference to the technical person listed under FOR FURTHER INFORMATION CONTACT. Do not submit any information in your request that is considered CBI. Requests to attend the conference, identified by docket ID number EPA-HQ-OPPT-2004-0122, must be received on or before September 14, 2007.

List of Subjects Environmental protection, Chemicals, Pollution prevention, Nanotechnology, Nanoscale materials.

Dated: June 25, 2007.
Charles M. Auer,
Director, Office of Pollution Prevention and Toxics.

[FR Doc. E7-12764 Filed 6-29-07; 8:45 am]

BILLING CODE 6560-50-S